DEPARTMENT OF STATE

[Public Notice: 7489]

30-Day Notice of Proposed Information Collections: RPPR Public Diplomacy Surveys

ACTION: Notice of request for public comment and submission to OMB of proposed collections of information.

SUMMARY: The Department of State has submitted the following information collection requests to the Office of Management and Budget (OMB) for approval in accordance with the Paperwork Reduction Act of 1995.

• Title of Information Collection: Advancing Public Diplomacy Impact (APDI)—Public Diplomacy Participants Study.

• OMB Control Number: None.

• Type of Request: New Collection.

• Originating Office: Office of the Under Secretary for Public Diplomacy and Public Affairs, Office of Policy Planning and Resources, Evaluation and Measurement Unit, (R/PPR-EMU).

• Form Number: Survey number assigned as needed.

• Respondents: U.S. public diplomacy participants in select foreign countries.

• Estimated Number of Respondents: 3,300.

• Estimated Number of Responses: 3,300.

• Average Hours Per Response: 30 minutes per response.

• Total Estimated Burden: 1,650.

• Frequency: On Occasion.

• Obligation to Respond: Voluntary.

• Title of Information Collection: Advancing Public Diplomacy Impact—Public Diplomacy Non-Participants Study.

• OMB Control Number: None.

• Type of Request: New Collection.

• Originating Office: Office of the Under Secretary for Public Diplomacy and Public Affairs, Office of Policy Planning and Resources, Evaluation and Measurement Unit, (R/PPR-EMU).

• Form Number: Survey number assigned as needed.

• Respondents: U.S. public diplomacy non-participants in select foreign countries.

• Estimated Number of Respondents: 3,300.

• Estimated Number of Responses: 3,300.

• Average Hours per Response: 30 minutes per response.

• Total Estimated Burden: 1,650 hours.

• Frequency: On Occasion.

• Obligation to Respond: Voluntary.

• Title of Information Collection: Advancing Public Diplomacy Impact (APDI)—General Population Survey (GPS).

• OMB Control Number: None.

• Type of Request: New Collection.

• Originating Office: Office of the Under Secretary for Public Diplomacy and Public Affairs, Office of Policy Planning and Resources, Evaluation and Measurement Unit, (R/PPR-EMU).

• Form Number: Survey number assigned as needed.

• Respondents: General population in select foreign countries.

• Estimated Number of Respondents: 12,000.

• Estimated Number of Responses: 12,000.

• Average Hours per Response: 30 minutes per response.

• Total Estimated Burden: 6,000 hours.

• Frequency: On Occasion.

• Obligation to Respond: Voluntary.

• Title of Information Collection: Electronic Media Engagement Evaluation.

• OMB Control Number: None.

• Type of Request: New Collection.

• Originating Office: Office of the Under Secretary for Public Diplomacy and Public Affairs, Office of Policy Planning and Resources, Evaluation and Measurement Unit, (R/PPR-EMU).

• Form Number: Survey number assigned as needed.

• Respondents: Internet users from select foreign countries.

• Estimated Number of Respondents: 8,000.

• Estimated Number of Responses: 8,000.

• Average Hours Per Response: 30 minutes per response.

• Total Estimated Burden: 4,000 hours.

• Frequency: On Occasion.

• Obligation to Respond: Voluntary.

• Title of Information Collection: Key Audience Analysis.

• OMB Control Number: None.

• Type of Request: New Collection.

• Originating Office: Office of the Under Secretary for Public Diplomacy and Public Affairs, Office of Policy Planning and Resources, Evaluation and Measurement Unit, (R/PPR-EMU).

• Form Number: Survey number assigned as needed.

• Respondents: Internet users in select foreign countries.

• Estimated Number of Respondents: 9,600.

• Estimated Number of Responses: 9,600.

• Average Hours per Response: 20 minutes per response.

• Total Estimated Burden: 3,200 hours.

• Frequency: On Occasion.

• Obligation to Respond: Voluntary.

DATE: Submit comments to the Office of Management and Budget (OMB) for up to 30 days from June 2, 2011.

ADDRESSES: Direct comments to the Department of State Desk Officer in the Office of Information and Regulatory Affairs at the Office of Management and Budget (OMB). You may submit comments by the following methods:

• E-mail: oira_submission@omb.eop.gov. You must include the DS form number, information collection title, and OMB control number in the subject line of your message.

• Fax: 202-395-5806. Attention: Desk Officer for Department of State.

FOR FURTHER INFORMATION CONTACT: You may obtain copies of the proposed information collection and supporting documents by submitting a request to RPPREMUdocs@state.gov or by mail to RPPR EMU Paperwork Reduction Act Document Request, U.S. Department of State, SA-5, 5th Floor, 2200 C Street, NW., Washington, DC 20037.

SUPPLEMENTARY INFORMATION:

We are soliciting public comments to permit the Department to:

• Evaluate whether the proposed collection of information is necessary to properly perform our functions.

• Evaluate the accuracy of our estimate of the burden of the proposed collection, including the validity of the methodology and assumptions used.

• Enhance the quality, utility, and clarity of the information to be collected.

• Minimize the reporting burden on those who are to respond.

Abstract of proposed collections:

The Department of State is requesting new information collections to evaluate the impact of U.S. public diplomacy efforts and to evaluate public opinion among the general populations in select foreign countries. These collections are part of a larger evaluation looking at the impact of U.S. public diplomacy efforts and foreign views toward the U.S. and U.S. foreign policy.

• The Advancing Public Diplomacy Impact (APDI) Public Diplomacy Participants Study collection will include a survey and a focus group of participants who have taken part in U.S. public diplomacy programs.

• The Advancing Public Diplomacy Impact (APDI) Public Diplomacy Non-Participants Study collection will include a survey using face-to-face interviews and a focus group of participants who have not taken part in U.S. public diplomacy programs in order to compare their responses to those participants who have taken part in U.S. public diplomacy programs.

• The Advancing Public Diplomacy Impact (APDI)-General Population Survey (GPS) collection will include a survey using face-to-face interviews and a focus group of participants who are representative of the general populations.

• The Electronic Media Engagement collection will include a survey and a focus group of participants designed to study how Internet users use different forms of social media and similar collaborative technologies to interact on Public Diplomacy themes in which they have interests.

• The Key Audience Analysis collection will include a survey of internet users designed to develop key audience profiles for public diplomacy outreach.

Methodology:

• For APDI participants, APDI non-participants, and APDI-GPS, the information collection will be accomplished through a focus group and a survey using face-to-face interviews or, whenever doing so will ease any burden on the participant while also protecting the participant's privacy, telephone or online interviews.

• For Electronic Media Engagement, the information collection will be accomplished through focus groups or Internet surveying applications available within each country. When the infrastructure of the foreign country does not permit electronic data collection, data may be collected by personal interviews. When data are being collected through focus groups, participants are recruited to match criteria defined on a country by country basis.

• For Key Audience Analysis, the information collection will be accomplished through Internet surveying applications available within each country.

Dated: May 20, 2011.
Larry Schwartz,
Director, Policy, Planning and Resources (R/PPR), U.S. Department of State.

[FR Doc. 2011-13705 Filed 6-1-11; 8:45 am]

BILLING CODE 4710-10-P